DEPARTMENT OF LABOR

Occupational Safety and Health Administration

[Docket No. ICR-1218-0072(2002)]

Hazard Communication Standard; Extension of the Office of Management and Budget's (OMB) Approval of Information-Collection (Paperwork) Requirements

AGENCY: Occupational Safety and Health Administration (OSHA), Labor.

ACTION: Request for comments.

SUMMARY: OSHA solicits comments concerning its proposal to decrease the total burden hour estimates for, and to extend OMB approval of, the collection-of-information requirements specified by the Hazard Communication Standard (HCS) (29 CFR 1910.1200; 1915.1200; 1917.28; 1918.90; 1926.59; 1928.21).¹ The HCS requires employers to establish written hazard communication programs to transmit information on the hazards of chemicals to their employees by means of labels on containers, material safety data sheets, and training programs.

¹ Based on its assessment of the paperwork requirements contained in this standard, the Agency estimates that the total burden hours decreased compared to its previous burden-hour estimate. Under this notice, OSHA is not proposing to revise these paperwork requirements in any manner, only to decrease the burden-hour estimate imposed by the existing paperwork requirements.

DATES: Submit written comments on or before May 17, 2002.

ADDRESSES: Submit written comments to the Docket Office, Docket No. ICR-1218-0072(2002), OSHA, U.S. Department of Labor, Room N-2625, 200 Constitution Avenue, NW., Washington, DC 20210; telephone (202) 693-2350. Commenters may transmit written comments of 10 pages or less by facsimile to (202) 693-1648.

FOR FURTHER INFORMATION CONTACT: Todd Owen, Directorate of Policy, OSHA, U.S. Department of Labor, Room N-3641, 200 Constitution Avenue, NW., Washington, DC 20210; telephone: (202) 693-2444. A copy of the Agency's Information-Collection Request (ICR) supporting the need for the information collections specified in the Hazard Communication Standard is available for inspection and copying in the Docket Office, or by requesting a copy from Todd Owen at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e. employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are clearly understood, and OSHA's estimate of the information collection burden is correct. The Occupational Safety and Health Act of 1970 (the Act) authorizes information collection by employers as necessary or appropriate for enforcement of the Act or for developing information regarding the causes and prevention of occupational injuries, illnesses, and accidents. (29 U.S.C. 657.)

The information-collection requirements in the Hazard Communication Standard ensures that the hazards of all chemicals produced or imported are evaluated and that information concerning their hazards is transmitted to employees and downstream employers. The Standard requires chemical manufacturers and importers to evaluate chemicals they produce or import to determine if they are hazardous; for those chemicals determined to be hazardous, material safety data sheets and warning labels must be developed. Employers are required to established hazard communication programs, to transmit information on the hazards of chemicals to their employees by means of labels on containers, material safety data sheets and training programs.

Implementation of these collection of information requirements will ensure all employees have the “right-to-know” the hazards and identities of the chemicals they work with and will reduce the incidence of chemically-related occupational illnesses and injuries.

II. Special Issues for Comment

OSHA has particularly interest in comments on the following issues:

• Whether the information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply, for example, by using automated, or other technological information-collection and -transmission techniques.

III. Proposed Actions

OSHA is requesting to decrease the existing burden-hour estimate for, and to extend OMB approval of, the collection-of-information requirements specified by the Standard. In this regard, the Agency is requesting to decrease the current burden hour estimate from 7,560,232 hours to 7,498,766 hours, a total decrease of 61,466 hours. Based on more recent data, the Agency reduced the number of establishments, shipped containers, and in-plant containers used to calculate the burden hour and cost estimates. OSHA will summarize the comments submitted in response to this notice, and will include this summary in its request to OMB to extend its approval of these information-collection requirements.

Type of Review: Extension of currently approved information-collection requirements.

Title: Hazard Communication Standard.

OMB Number: 1218-0072.

Affected Public: Business or other for-profit; not-for-profit institutions; Federal government; State, local or tribal governments.

Number of Respondents: 6,035,925.

Frequency: On occasion.

Average Time per response: Varies from approximately 10 minutes for establishments to obtain and maintain material safety data sheets to 8 hours for manufacturers or importers to conduct a hazard determination.

Estimated Total Burden Hours: 7,498,766 hours.

Estimated Cost (Operation and Maintenance): $247,187.

IV. Authority and Signature

John L. Henshaw, Assistant Secretary of Labor for Occupational Safety and Health, directed the preparation of this notice. The authority for this notice is the Paperwork Reduction Act of 1995 (44 U.S.C. 3506), and Secretary of Labor's Order No. 3-2000 (65 FR 50017).

Signed at Washington, DC on March 8, 2002.
John L. Henshaw,
Assistant Secretary of Labor.

[FR Doc. 02-6449 Filed 3-15-02; 8:45 am]

BILLING CODE 4510-26-M